COMMODITY FUTURES TRADING COMMISSION

Agency Information Collection Activities: Notice of Intent To Renew Collection 3038-0017, Market Surveys

AGENCY: Commodity Futures Trading Commission.

ACTION: Notice.

SUMMARY: The Commodity Futures Trading Commission (CFTC) is announcing an opportunity for public comment on the proposed collection of certain information by the agency. Under the Paperwork Reduction Act of 1995 (PRA), 44 U.S.C. 3501 et seq., Federal agencies are required to publish notice in the Federal Register concerning each proposed collection of information, including each proposed extension of an existing collection of information, and to allow 60 days for public comment in response to the notice. This notice solicits comments on requirements relating to market surveys conducted to determine use of futures markets by commercial entities or to investigate underlying causes of marketwide phenomena.

DATES: Comments must be submitted on or before July 10, 2000.

ADDRESSES: Comments may be mailed to Lamont L. Reese, Division Economic Analysis, U.S. Commodity Futures Trading Commission, 1155 21st Street NW., Washington, DC 20581.

FOR FURTHER INFORMATION CONTACT: Lamont L. Reese, (202) 418-5310; FAX: (202) 418-5527; email: Ireese@cftc.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Market Surveys, OMB Control No. 3038-0017—Extension

Section 8(a)(i) and (ii) of the Commodity Exchange Act (Act) provide that for the efficient execution of the provisions of the Act and in order to inform Congress, the Commission may make investigations concerning futures markets and may publish general statistical information from such investigations. In certain instances in response to abrupt and substantial changes in market prices, Congressional inquiry or other reasons, the Commission may conduct full market investigation requiring that all persons holding futures positions on the date in question in a specific market be identified. In such cases the Commission issues its call for survey information pursuant to Rule 21.02, 17 CFR 21.02.

The Commission estimates the burden of this collection of information as follows:

Estimated Annual Reporting Burden
17 CFR section | Annual number of respondents | Frequency of response | Total annual responses | Hours per response | Total hours
17 CFR 21.02 | 400 | On occasion | 400 | 1.75 | 700

There are no capital costs or operating and maintenance costs associated with this collection.

This estimate is based on the number of members of contract markets, futures commission merchants, and foreign brokers who receive an abbreviated call for information in machine-readable form.

Dated: May 3, 2000.
Jean A. Webb,
Secretary of the Commission.

[FR Doc. 00-11528 Filed 5-8-00; 8:45 am]

BILLING CODE 6351-01-M